COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add services to the Procurement List that will be provided by nonprofit agencies employing persons who are blind or have other severe disabilities, and deletes products previously furnished by such agency.

DATES: Comments must be received on or before March 11, 2018.

ADDRESSES: Committee for Purchase From People Who Are Blind or Severely Disabled, 1401 S. Clark Street, Suite 715, Arlington, Virginia 22202-4149.

FOR FURTHER INFORMATION CONTACT: For further information or to submit comments contact: Amy B. Jensen, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the services listed below from nonprofit agencies employing persons who are blind or have other severe disabilities.

The following services are proposed for addition to the Procurement List for production by the nonprofit agencies listed:

Services

Service Type: Grounds Maintenance Service

Mandatory for: U.S. Army Garrison Miami, U.S. Special Operations Command South 29401 SW 125th Avenue, Bldg. 600, Homestead Air Reserve Base, FL

U.S. Army Garrison Miami, 3501 Granada Blvd., Coral Gables, FL

Mandatory Source of Supply: Goodwill Industries of South Florida, Inc., Miami, FL

Contracting Activity: DEPT OF THE ARMY, 0410 AQ HQ

Service Type: Custodial Service

Mandatory for: National Park Service, Colonial National Historical Park, 10815 George Washington Memorial Highway, Yorktown, VA

Mandatory Source of Supply: VersAbility Resources, Inc., Hampton, VA

Contracting Activity: National Park Service, NER Construction/IA/AE MABO (42000)

Deletions

The following products are proposed for deletion from the Procurement List:

Products

NSN(s)—Product Name(s):

7920-01-615-6967—Scrub Brush, Wire, Black Tempered, Ergonomic, 5″

7920-01-615-6968—Wire Brush, Wire, Knuckle Guard, Long Handle, Ergonomic, 6″ x 1⅛″

7920-01-615-6971—Scrub Brush, Wire, Knuckle Guard, Long Handle, Ergonomic, 6″ x 1⅛″, w/built-in scraper

7920-01-615-6972—Scrub Brush, Polypropylene Bristles, Extension Pole-Compatible, 2″ x 8″

7920-01-615-6973—Scrub Brush, Wire, Stainless, Ergonomic, 5″

Mandatory Source of Supply: Industries for the Blind, Inc., West Allis, WI

Contracting Activity: General Services Administration, Fort Worth, TX

Amy B. Jensen,
Director, Business Operations.

[FR Doc. 2018-02651 Filed 2-8-18; 8:45 am]

BILLING CODE 6353-01-P